DEPARTMENT OF THE INTERIOR

Bureau of Land Management

[LLOR932000-L16100000-DF0000-LXSS062H0000; HAG 10-0177]

Notice of Availability of the Final Environmental Impact Statement for Vegetation Treatments Using Herbicides on Bureau of Land Management Lands in Oregon

AGENCY: Bureau of Land Management, Interior.

ACTION: Notice of Availability.

SUMMARY: In accordance with the National Environmental Policy Act of 1969, as amended (NEPA), the Bureau of Land Management (BLM) has prepared a Final Environmental Impact Statement (EIS) for Vegetation Treatments Using Herbicides on Bureau of Land Management lands in Oregon and by this notice is announcing its availability. The EIS proposes to increase the number of herbicides currently in use on BLM-managed lands in Oregon and increase the number of objectives for which they can be used.

DATES: The BLM anticipates signing a Record of Decision within 30 to 90 days of publication of the Final EIS. There will be a 30-day appeal period following issuance of the Record of Decision (ROD) before the decision can take effect. The availability of the ROD will be announced via a subsequent Federal Register notice. Information about the appeal period will be included in the ROD.

FOR FURTHER INFORMATION CONTACT: For further information contact Todd Thompson, EIS Project Manager, telephone (503) 808-6326; address Bureau of Land Management—OR932, P.O. Box 2965, Portland, Oregon 97208; e-mail orvegtreatments@blm.gov.

Copies of the Vegetation Treatments Final EIS are available at the following Web site: http://www.blm.gov/or/plans/vegtreatmentseis/. Copies have been sent to libraries and BLM district offices throughout Oregon. Copies have also been sent to affected Federal, State, tribal, and local government agencies, to persons who have asked to be on the project mailing list, and to everyone who submitted comments on the Draft EIS. Requests to receive printed or Compact Disk copies of the Final EIS should be sent to one of the addresses listed above.

SUPPLEMENTARY INFORMATION: The Draft EIS for Vegetation Treatments Using Herbicides on BLM Lands in Oregon was released for public comment in October 2009. Approximately 1,050 comments were received on the Draft EIS and the ideas presented in these comments were used to improve the analysis presented in the Final EIS. The Proposed Action, Alternative 4, would allow for the use of 16 herbicides east of the Cascades and 13 herbicides west of the Cascades to control noxious and invasive weeds; treat vegetation along roads, rights-of-way, and BLM improvements; and conduct certain habitat improvement projects. The Oregon BLM currently utilizes four herbicides and uses them only for the treatment of noxious weeds.

In 1984, the BLM was prohibited from using herbicides in Oregon by a U.S. District Court injunction issued in Northwest Coalition for Alternatives to Pesticides, et al. v. Block, et al., (Civ. No. 82-6273-E). Following completion of an EIS examining the use of four herbicides for the treatment of noxious weeds only, the injunction was modified by the court in November 1987, (Civ. No. 82-6272-BU). For the subsequent 23 years, the BLM in Oregon has limited its herbicide use to the four herbicides analyzed and limited the use of those four herbicides to the control and eradication of Federal, State, or county listed noxious weeds. In that time, new herbicides have become available that can be used in smaller doses, are more target-specific, and are lower risk to people and other non-target organisms. In 2007, the BLM Washington Office Rangeland Resources Division completed the Vegetation Treatments Using Herbicides on BLM Lands in 17 Western States Programmatic EIS and related ROD (Programmatic EIS), making 18 herbicides available for a full range of vegetation treatments in 17 western states, including Oregon. Oregon cannot fully implement that decision, however, until and unless the 1984 District Court injunction is lifted. The Final EIS being released today, Vegetation Treatments Using Herbicides on BLM Lands in Oregon, tiers to the Programmatic EIS, incorporates standard operating procedures for the use of herbicides, provides additional detailed analysis regarding the potential for human and environmental risks generated in support of the Programmatic EIS and addresses the concerns raised in the 1984 District Court injunction.

This Final EIS addresses all 15.7 million acres of BLM lands in Oregon and all 18 herbicides approved for use by the 2007 ROD for the Programmatic EIS, which are being used in the other 16 western states. The Final EIS analyzes a “no action” and three action alternatives which were shaped in part by the comments received during 12 public scoping meetings held throughout Oregon in July 2008. A “no herbicides” reference analysis is also included. The alternatives address eight “Purposes” or issues also identified during scoping.

The Final EIS analysis indicates that by using standard operating procedures identified in applicable BLM manuals and policy direction, along with Programmatic EIS-adopted mitigation measures, human and environmental risk from the use of herbicides is both minimized and reduced from current levels. The proposed action would also slow the spread of noxious weeds on BLM lands by about 50 percent and result in an estimated 2.2 million fewer infested acres in 15 years than under current program capabilities. The Final EIS and forthcoming ROD do not authorize any specific herbicide treatment projects. Site-specific projects will be subject to additional NEPA analysis.

Consultation with the U.S. Fish and Wildlife Service and the National Marine Fisheries Service is being conducted to ensure continued applicability of informal consultation and the Biological Opinion issued on the Programmatic EIS by those two agencies respectively.

The responsible official for the EIS is the BLM Oregon and Washington State Director.

Edward W. Shepard,
State Director, Oregon/Washington.

[FR Doc. 2010-18615 Filed 7-29-10; 8:45 am]

BILLING CODE 4310-33-P